DEPARTMENT OF JUSTICE

Notice of Lodging of Proposed Consent Decree Under the Clean Air Act

On November 3, 2015, the Department of Justice lodged a proposed Consent Decree with the United States District Court for the District of Arizona in the lawsuit entitled United States v. Asarco LLC, Civil Action No. 2:15-cv-02206-JZB.

The United States filed this civil enforcement action under the federal Clean Air Act. The United States' complaint seeks injunctive relief and civil penalties for violations of the regulations that govern emissions from the defendant's copper smelting facility in Hayden, Arizona. The proposed consent decree resolves the claims alleged in the complaint and requires the defendant to perform injunctive relief that will significantly reduce emissions of particulate matter, sulfur dioxide, and several hazardous air pollutants including lead and arsenic at its facility, and to pay a civil penalty of $4.5 million. Additionally, the proposed consent decree requires the defendant to spend at least $8 million on environmental mitigation projects that will benefit communities adversely affected by pollution from its facility. The defendant will also perform a Supplemental Environmental Project (“SEP”) under the proposed consent decree. For the SEP, the defendant will retire an old diesel switch locomotive and replace it with a low emission diesel-electric switch locomotive at an estimated cost of $1 million, which will result in reduced nitrogen oxides, particulate matter and greenhouse gas emissions.

The publication of this notice opens a period for public comment on the proposed consent decree. Comments should be addressed to the Assistant Attorney General, Environment and Natural Resources Division, and should refer to United States v. Asarco LLC, D.J. Ref. No. 90-5-2-1-10459. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $32.75 (25 cents per page reproduction cost) payable to the United States Treasury.

Henry Friedman,
Assistant Section Chief, Environmental Enforcement Section, Environment and Natural Resources Division.

[FR Doc. 2015-28479 Filed 11-9-15; 8:45 am]

BILLING CODE 4410-15-P